DEPARTMENT OF THE INTERIOR

Fish and Wildlife Service

Draft Recovery Plan for Deinandra conjugens (Otay Tarplant)

AGENCY: U.S. Fish and Wildlife Service, Interior.

ACTION: Notice of document availability for review and comment.

SUMMARY: The U.S. Fish and Wildlife Service (“we”), announces the availability of the Draft Recovery Plan for Deinandra conjugens (Otay Tarplant) for public review. This draft recovery plan includes specific criteria and measures to be taken in order to effectively recover the species to the point where delisting is warranted. We solicit review and comment from the public and local, State, and Federal agencies on this draft recovery plan.

DATES: Comments on the draft recovery plan must be received on or before March 2, 2004 to receive our consideration.

ADDRESSES: Hard copies of the draft recovery plan will be available in 2 to 4 weeks. An electronic copy of this draft plan is now available at http://www.pacific.fws.gov/ecoservices/endangered/recovery/default. Written request for copies of the draft recovery plan and submission of written comments regarding the plan should be addressed to the Field Supervisor, U.S. Fish and Wildlife Service, Carlsbad Fish and Wildlife Office, 6010 Hidden Valley Road, Carlsbad, California 92009. Supporting documents are available for inspection, by appointment, during normal business hours at the above address.

FOR FURTHER INFORMATION CONTACT: Kelly Goocher, Fish and Wildlife Biologist, at the above Carlsbad address (telephone: 760-431-9440).

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. We will consider all information presented during the public comment period prior to approval of each new or revised recovery plan. Substantive technical comments may result in changes to the recovery plan. Substantive comments regarding recovery plan implementation may not necessarily result in changes to the recovery plan, but will be forwarded to appropriate Federal or other entities so that they can take these comments into account during the course of implementing recovery actions. Individual responses to comments will not be provided.

Deinandra conjugens is an annual plant in the family Asteraceae. It was federally listed as a threatened species on October 13, 1998 (63 FR 54938). The species occurs in southwest San Diego County, California, and in northern Baja California, Mexico. It occurs predominantly on clay soils, subsoils, or lenses (isolated areas of clay soil), which typically support grasslands, but may support some woody vegetation.

Agriculture and urban development, invasion of nonnative species, and habitat fragmentation and degradation have resulted in the loss of suitable habitat across the species' range. The species' self-incompatible breeding system (an individual plant cannot pollinate itself, so successful reproduction requires pollination between genetically unrelated plants), its annual habit, and the extensive fragmentation of remaining populations potentially create additional threats from random population fluctuations, reduced populations of pollinators, a subsequent reduction in cross pollination and gene flow between populations, and a decline in genetic variation. Maintenance of the genetic variability within the species, through cross-pollination, may be critical to long-term survival.

Within San Diego County, the species occurs entirely within the Multiple Species Conservation Planning (MSCP) area, primarily within three associated subarea plans: the City of San Diego Subarea Plan, the County of San Diego Subarea Plan, and the City of Chula Vista Subarea Plan. These subarea plans provide for the conservation of Deinandra conjugens and many other listed and non-listed species by developing a reserve system with a monitoring and management framework, and protecting key populations. Additional measures outlined in the draft recovery plan will enhance the species' ability to achieve recovery.

This draft recovery plan recognizes efforts by the local jurisdictions to conserve Deinandra conjugens under the MSCP, and includes additional conservation measures designed to ensure D. conjugens will continue to exist, distributed throughout its extant and historic range. Recovery is dependent upon the conservation of sufficient habitat to sustain populations of D. conjugens, as well as populations of its primary pollinators; maintaining genetic variability within the species; and connect conserved populations to ensure gene flow (through cross pollination).

The ultimate goal of this recovery plan is to delist Deinandra conjugens through implementation of a variety of recovery actions including: (1) stabilizing and protecting habitat supporting known populations within the conserved areas under the MSCP; (2) surveying for new populations; (3) assessing status of known populations; (4) adaptively managing and monitoring conserved areas; (5) identifying research needs and conducting studies on biology and ecology of the species; and (6) developing and implementing a community outreach plan.

Public Comments Solicited

We solicit written comments on the draft recovery plan described. All comments received by the date specified above will be considered in developing a final recovery plan.

Authority

The authority for this action is section 4(f) of the Endangered Species Act, 16 U.S.C. 1533(f).

Dated: November 28, 2003.
D. Kenneth McDermond,
Acting Manager, California/Nevada Operations Office, Region 1, Fish and Wildlife Service.

[FR Doc. 03-31164 Filed 12-17-03; 8:45 am]

BILLING CODE 4310-55-P